DEPARTMENT OF TRANSPORTATION

Federal Aviation Administration

14 CFR Part 39

[Docket No. FAA-2006-25637; Directorate Identifier 2006-CE-43-AD]

RIN 2120-AA64

Airworthiness Directives; EADS SOCATA Model TBM 700 Airplanes

AGENCY: Federal Aviation Administration (FAA), Department of Transportation (DOT).

ACTION: Notice of proposed rulemaking (NPRM).

SUMMARY: We propose to adopt a new airworthiness directive (AD) for certain EADS SOCATA Model TBM 700 airplanes. This proposed AD would require you to inspect the pilot door locking stop-fittings for correct length and, if any incorrect length pilot door locking stop-fittings are found, replace them. This proposed AD results from mandatory continuing airworthiness information (MCAI) issued by the airworthiness authority for France. We are proposing this AD to detect and replace incorrect length pilot door locking stop-fittings. This condition, if not corrected, could result in depressurization of the airplane.

DATES: We must receive comments on this proposed AD by October 27, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact EADS SOCATA, Direction des Services, 65921 Tarbes Cedex 9, France; telephone: 33 (0)5 62 41 73 00; fax: 33 (0)5 62 41 76 54; or SOCATA AIRCRAFT, INC., North Perry Airport, 7501 South Airport Rd., Pembroke Pines, FL 33023; telephone: (954) 893-1400; fax: (954) 964-4141.

FOR FURTHER INFORMATION CONTACT: Gunnar Berg, Aerospace Safety Engineer, FAA, Small Airplane Directorate, 901 Locust, Room 301, Kansas City, Missouri 64106; telephone: (816) 329-4141; fax: (816) 329-4090.

SUPPLEMENTARY INFORMATION:

Comments Invited

We invite you to send any written relevant data, views, or arguments regarding this proposed AD. Send your comments to an address listed under the ADDRESSES section. Include the docket number, “FAA-2006-25637; Directorate Identifier 2006-CE-43-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

The Direction générale de l'aviation civile (DGAC), which is the aviation authority for France, notified FAA that an unsafe condition may exist on certain EADS SOCATA Model TBM 700 airplanes. The DGAC reports that the pilot door adjustment procedure was improperly done, and the pilot door locking stop-fittings may be of incorrect length. This condition, if not corrected, could result in depressurization of the airplane.

Relevant Service Information

We have reviewed EADS SOCATA Service Bulletin SB 70-131, ATA No. 53, dated July 2005.

The service information describes procedures for:

• Inspecting the pilot door locking stop-fittings for correct length and

• Replacing any incorrect length pilot door locking stop-fittings.

Foreign Airworthiness Authority Information

The DGAC classified this service bulletin as mandatory and issued French AD Number F-2005-134, dated August 03, 2005, to ensure the continued airworthiness of these airplanes in France. These EADS SOCATA Model TBM 700 airplanes are manufactured in France and are type-certificated for operation in the United States under the provisions of section 21.29 of the Federal Aviation Regulations (14 CFR 21.29) and the applicable bilateral airworthiness agreement.

Under this bilateral airworthiness agreement, the DGAC has kept us informed of the situation described above.

FAA's Determination and Requirements of the Proposed AD

We are proposing this AD because we have examined the DGAC's findings, evaluated all information and determined the unsafe condition described previously is likely to exist or develop on other products of the same type design that are certificated for operation in the United States.

This proposed AD would require you to inspect the pilot door locking stop-fittings for correct length and, if any incorrect length pilot door locking stop-fittings are found, replace them.

Differences Between This Proposed AD and the Service Information

The service information allows for unpressurized flight if any incorrect length pilot door locking-stop fittings are found. If parts have been ordered but are not available, the proposed AD would permit unpressurized flight for 90 days after the required inspection or until parts become available, whichever occurs first. In addition, a placard in view of the pilot would be installed prohibiting pressurized flight until the repairs are done. The service information does not have a compliance time for the repairs or a placard requirement if incorrect length pilot door locking stop-fittings are found. The requirements of this proposed AD, if adopted as a final rule, would take precedence over the provisions in the service information.

Costs of Compliance

We estimate that this proposed AD would affect 157 airplanes in the U.S. registry.

We estimate the following costs to do the proposed inspection and repair:

Labor cost | Parts cost | Total cost per airplane | Total cost on U.S. operators
4.5 work-hours × $80 per hour = $360 | $15 | $375 | $58,875

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EADS SOCATA: Docket No. FAA-2006-25637; Directorate Identifier 2006-CE-43-AD.

Comments Due Date

(a) We must receive comments on this airworthiness directive (AD) action by October 27, 2006.

Affected ADs

(b) None.

Applicability

(c) This AD applies to Model TBM 700 airplanes, serial numbers 126 through 322, that are certificated in any category.

Unsafe Condition

(d) This AD results from a pilot door adjustment procedure not being done properly. We are issuing this AD to detect and correct incorrect length pilot door locking stop-fittings. This condition, if not corrected, could result in depressurization of the airplane.

Compliance

(e) To address this problem, you must do the following:

Actions | Compliance | Procedures
(1) Inspect the pilot door locking stop-fittings for correct length | Within 30 days after the effective date of this AD, unless already done | Follow EADS SOCATA Service Bulletin SB 70-131, ATA No. 53, dated July 2005.
(2) If any incorrect length pilot door locking stop-fittings are found, replace them | Before further flight after the inspection by paragraph (e)(1) of this AD | Follow EADS SOCATA Service Bulletin SB 70-131, ATA No. 53, dated July 2005.

(f) If you have ordered parts and they are not available, then you may fly unpressurized until parts become available or for a period not to exceed 90 days after the inspection required in paragraph (e)(1) of this AD, whichever occurs first. You must also fabricate and install a placard as described below. Completing the action of paragraph (e)(2) of this AD terminates the placard requirement.

(1) Fabricate (using letters at least ⅛ inch in height) a warning placard which states “This airplane is prohibited from pressurized flight.”

(2) Install the placard in full view of the pilot. The owner/operator holding at least a private pilot certificate as authorized by section 43.7 of the Federal Aviation Regulations (14 CFR 43.7) may install the placard as required in paragraph (f) of this AD.

Alternative Methods of Compliance (AMOCs)

(g) The Manager, Standards Office, Small Airplane Directorate, FAA, ATTN: Gunnar Berg, Aerospace Safety Engineer, FAA, Small Airplane Directorate, 901 Locust, Room 301, Kansas City, Missouri 64106; telephone: (816) 329-4141; fax: (816) 329-4090, has the authority to approve AMOCs for this AD, if requested using the procedures found in 14 CFR 39.19.

Related Information

(h) This AD is related to French AD Number F-2005-134, dated August 3, 2005. To get copies of the service information referenced in this AD, contact EADS SOCATA, Direction des Services, 65921 Tarbes Cedex 9, France; telephone: 33 (0)5 62 41 73 00; fax: 33 (0)5 62 41 76 54; or SOCATA AIRCRAFT, INC., North Perry Airport, 7501 South Airport Rd., Pembroke Pines, FL 33023; telephone: (954) 893-1400; fax: (954) 964-4141. To view the AD docket, go to the Docket Management Facility; U.S. Department of Transportation, 400 Seventh Street, SW., Nassif Building, Room PL-401, Washington, DC, or on the Internet at http://dms.dot.gov. The docket number is Docket No. FAA-2006-25637; Directorate Identifier 2006-CE-43-AD.

Issued in Kansas City, Missouri, on September 20, 2006.
David R. Showers,
Acting Manager, Small Airplane Directorate, Aircraft Certification Service.

[FR Doc. 06-8277 Filed 9-26-06; 8:45 am]

BILLING CODE 4910-13-P